DEPARTMENT OF TRANSPORTATION

Pipeline and Hazardous Materials Safety Administration

49 CFR Parts 172, 173, 174, 179, and 180

[Docket No. PHMSA-2018-0025 (HM-264)]

RIN 2137-AF40

Hazardous Materials: Liquefied Natural Gas by Rail

Correction

In rule document 2025-11436, appearing on pages 26455 through 26459 in the issue of Monday, June 23, 2025, make the following correction:

On page 26459, in the first column, from the top of the page, lines 24 through 30 in Part 179.400-8 are corrected as set forth below.

§ 179.400-8 Thickness of plates [Corrected]

(d)(1) The minimum wall thickness, after forming, of the outer jacket shell may not be less than 7/16 inch. The minimum wall thickness, after forming, of the outer jacket heads may not be less than ½ inch and they must be made from steel specified in § 179.16(c).

[FR Doc. C1-2025-11436 Filed 6-30-25; 8:45 am]

BILLING CODE 0099-10-P